DEPARTMENT OF AGRICULTURE

Animal and Plant Health Inspection Service

[Docket No. APHIS-2019-0074]

Notice of Request for Revision to and Extension of Approval of an Information Collection; Scrapie in Sheep and Goats; Interstate Movement Restrictions and Indemnity Program

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the current regulations for the interstate movement of sheep and goats and an indemnity program to control the spread of scrapie. This notice is separate from any new rulemaking.

DATES: We will consider all comments that we receive on or before February 3, 2020.

ADDRESSES: You may submit comments by either of the following methods:

• Federal eRulemaking Portal: Go to http://www.regulations.gov/#!docketDetail;D=APHIS-2019-0074.

• Postal Mail/Commercial Delivery: Send your comment to Docket No. APHIS-2019-0074, Regulatory Analysis and Development, PPD, APHIS, Station 3A-03.8, 4700 River Road Unit 118, Riverdale, MD 20737-1238.

Supporting documents and any comments we receive on this docket may be viewed at http://www.regulations.gov/#!docketDetail;D=APHIS-2019-0074 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the current domestic regulations to control the spread of scrapie, contact Dr. Diane Sutton, Assistant Director Ruminant Health Programs, VS, APHIS, 4700 River Road Unit 43, Riverdale, MD 20737; (301) 851-3509. For more detailed information on the information collection, contact Mr. Joseph Moxey, APHIS' Information Collection Coordinator, at (301) 851-2483.

SUPPLEMENTARY INFORMATION: Title: Scrapie in Sheep and Goats; Interstate Movement Restrictions and Indemnity Program.

OMB Control Number: 0579-0101.

Type of Request: Revision to and extension of approval of an information collection.

Abstract: Under the Animal Health Protection Act (7 U.S.C. 8301 et seq.), the Animal and Plant Health Inspection Service (APHIS) of the U.S. Department of Agriculture is authorized, among other things, to prohibit or restrict the interstate movement of animals and animal products to prevent the dissemination within the United States of animal diseases and pests of livestock and to conduct programs to detect, control, and eradicate pests and diseases of livestock.

Scrapie is a progressive, degenerative, and eventually fatal disease affecting the nervous system of sheep and goats. Its control is complicated because the disease has an extremely long incubation period without clinical signs of disease and no known treatment.

APHIS regulations in 9 CFR part 79 restrict the interstate movement of certain sheep and goats to control the spread of scrapie, and 9 CFR part 54 contains regulations for an indemnity program, flock cleanup, testing, and a Scrapie Free Flock Certification Program (SFCP).

The scrapie disease control program information collection activities include cooperative agreements; grants; memoranda of understanding; APHIS forms for inspection and epidemiology data; applications to participate in the SFCP; flock plans; post-exposure management and monitoring plans; record suspect/dead animals; scrapie test records; applications for indemnity payments; certificates, permits, and owner statements for the interstate movement of certain sheep and goats; applications for premises identification numbers; applications for official APHIS identification; designated scrapie epidemiologist training; and other program-related activities.

In addition, APHIS is adding new information collection activities to the current domestic scrapie program that include State burden from interstate certificates of veterinary inspection, private laboratory approval requests, contributions of breed registry associations, epidemiology and identification compliance reporting, declination to respond, epidemiology training, and disposal cost information. As a consequence, we have adjusted the estimates of burden accordingly. In addition, the adjusted estimates also reflect increases in identification tag orders and the number of specimen submissions per laboratory to better represent our current activities.

The information collection activities above are currently approved by the Office of Management and Budget (OMB) under OMB control numbers 0579-0101 (Scrapie in Sheep and Goats; Interstate Movement Restrictions and Indemnity Program), and 0579-0469 (Scrapie in Sheep and Goats; Flock Certification, Interstate Movement and Indemnity Revisions). After OMB approves this combined information collection package (0579-0101), APHIS will retire OMB control number 0579-0469.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.66 hours per response.

Respondents: Flock owners; market owners, operators, or managers; dealers; slaughter plant owners, operators, or managers; feedlot owners, operators, or managers; tag manufacturers; managers of producer organizations; accredited veterinarians; and State animal health authorities.

Estimated annual number of respondents: 100,050.

Estimated annual number of responses per respondent: 13.55.

Estimated annual number of responses: 1,355,937.

Estimated total annual burden on respondents: 898,574 hours. (Due to averaging, the total annual burden hours may not equal the product of the annual number of responses multiplied by the reporting burden per response.)

All responses to this notice will be summarized and included in the request for OMB approval. All comments will also become a matter of public record.

Done in Washington, DC, this 26th day of November 2019.
Kevin Shea,
Administrator, Animal and Plant Health Inspection Service.

[FR Doc. 2019-26115 Filed 12-2-19; 8:45 am]

BILLING CODE 3410-34-P